FEDERAL COMMUNICATIONS COMMISSION

47 CFR Part 20

[CC Docket No. 94-102; FCC 03-262]

Ensuring Compatibility With Enhanced 911 Emergency Calling Systems; Non-Initialized Phones

AGENCY: Federal Communications Commission.

ACTION: Final rule.

SUMMARY: This document lifts the stay currently in effect and modifies the Commission's rules by striking the requirement to program the 123-456-7890 sequential number into carrier-donated non-initialized and “911-only” phones. This action also relieves carriers of any attendant obligations to complete any network programming necessary to deliver the 123-456-7890 “telephone number” from these devices to PSAPs. This action further requires that carriers complete any network programming necessary to deliver this “telephone number” from carrier-donated non-service initialized phones and “911-only” handsets to PSAPs.

DATES: The stay of paragraphs (l)(1)(i) and (l)(2)(i) of § 20.18 is lifted effective May 3, 2004. The amendments to § 20.18 are effective May 3, 2004.

FOR FURTHER INFORMATION CONTACT: Eugenie Barton, Attorney, (202) 418-1732.

SUPPLEMENTARY INFORMATION: This document grants the Petition for Reconsideration (Reconsideration Petition) filed by the Alliance for Telecommunications Industry Solutions (ATIS) on behalf of the Emergency Services Interconnection Forum (ESIF). In an Order released on September 30, 2002, the Commission stayed the rules contained in §§ 20.18(l)(1)(i) and (l)(2)(i) until the Commission resolved the Reconsideration Petition. This is a summary of the Commission Memorandum Opinion and Order, (MO&O) released November 3, 2003 (FCC 03-262). The full text of the MO&O is available for inspection and copying during normal business hours in the FCC Reference Center, Room CY-A257, 445 12th St., SW., Washington DC 20554. The complete text may also be purchased from the Commission's duplicating contractor, Qualex International, Portals II, 445 12th St., SW., Room CY-B402, Washington DC, telephone (202) 863-2893, facsimile (202) 863-2898, or via e-mail qualexint@aol.com. Additionally, the complete item is available on the Commission's Web site at http://www.fcc.gov/wtb.

Synopsis of the MO&O

1. In this Memorandum Opinion and Order (MO&O), the Commission grants the Petition for Reconsideration (Reconsideration Petition) filed by the Alliance for Telecommunications Industry Solutions (ATIS) on behalf of the Emergency Services Interconnection Forum (ESIF). This document amends the Commission's rules with the requirement to program carrier-donated non-service initialized phones and new “911-only” handsets covered in our original Report and Order, 67 FR 36112 (May 23, 2002), with a sequential number beginning with “911,” plus seven digits selected in a manner analogous to the way a “telephone number” is generated by Annex C compliant network software, as explained in more detail. The Emergency Services Interconnection Forum (ESIF) refers to the solution as the “Annex C” solution because it was originally published as Annex C to J-STD-036-A, “Enhanced Wireless 9-1-1 Phase 2” (June 2002). The Commission's Report and Order under reconsideration required the programming of carrier-donated non-service-initialized phones and newly manufactured non-initialized “911-only” wireless handsets with the number 123-456-7890 as the “telephone number” transmitted to the Public Safety Answering Point (PSAP) receiving the call in order to address the problems created by the lack of call-back capability when 911 calls are dialed from these devices. The Commission concludes, in light of the new information presented by the ESIF, that the voluntary technical standard developed by the ESIF, which was recently adopted as part of the “Enhanced Wireless 9-1-1 Phase 2” industry consensus standard, provides a more far-reaching and technically superior solution and better serves the public interest.

2. Accordingly, the Stay currently in effect is lifted and the Commission's rules are modified by striking the requirement to program the 123-456-7890 sequential number into carrier-donated non-initialized and “911-only” phones. Carriers are also relieved of any attendant obligations to complete any network programming necessary to deliver the 123-456-7890 “telephone number” from these devices to PSAPs. Those rules are now amended with the requirement to program carrier-donated non-service initialized phones and new “911-only” handsets covered in our original Report and Order with a sequential number beginning with “911,” plus seven digits selected in a manner analogous to the way a “telephone number” is generated by Annex C compliant network software. Carriers are further required to complete any network programming necessary to deliver this “telephone number” from carrier-donated non-service initialized phones and “911-only” handsets to PSAPs.

3. In view of the potential importance to public safety to provide PSAPs with a means of identifying emergency calls made by recipients of non-initialized wireless phones donated to provide them with emergency assistance and by purchasers of non-initialized “911-only” phones, the Commission further requires that, within six months of the issuance of the November 3, 2003 MO&O, carriers donating such phones and handset manufacturers of “911-only” phones that were covered under the requirements in our Report and Order begin to program 911 plus a seven digit number that is derived by a methodology analogous to that described in Annex C. By striking the earlier programming requirement and replacing it with a requirement that is consistent with the emerging industry standard for network deployment of Phase II E911, the Commission is targeting its regulations to accomplish the greatest benefit with the least burden. If the network solution becomes ubiquitous in the future and is able to provide a means of identifying emergency calls from these handsets, as well, the Commission plans to revisit the imposition of this limited requirement.

4. In light of the record, the limited scope of the Commission's original Report and Order, and the need for flexibility in the face of rapidly changing technology, the Commission will give the ESIF consensus standards process time to achieve full implementation voluntarily. However, the Annex C solution is expected to be substantially implemented voluntarily within 18 months of the issuance of the November 3, 2003 MO&O. As previously stated in the context of the First Report and Order, if a need for further action is demonstrated, “especially once E911 Phase I is fully operational and ubiquitous, the Commission will revisit this issue, weigh the evidence presented, and look at the possibility of requiring a technical or other solution at that time.” If, within one year from the date the MO&O was issued, considerable progress towards the goal of voluntary implementation of the Annex C solution has not been made, the Commission will consider whether it is in the public interest to impose further specific implementation requirements.

Paperwork Reduction Act of 1995 Analysis

5. The actions contained in the MO&O have been analyzed with respect to the Paperwork Reduction Act of 1995 and found to impose no new reporting requirements or burden on the public.

Final Regulatory Flexibility Analysis

6. The Regulatory Flexibility Act (RFA) of 1980, as amended, requires that a regulatory flexibility analysis be prepared for notice-and-comment rule making proceedings, unless the agency certifies that “the rule will not, if promulgated, have significant economic impact on a substantial number of small entities.” The RFA generally defines “small entity” as having the same meaning as the terms “small business,” “small organization,” and “small governmental jurisdiction.” In addition, the term “small business” has the same meaning as the term “small business concern” under the Small Business Act. A small business concern is one which: (i) Is independently owned and operated; (ii) is not dominant in its field of operation; and (iii) satisfies any additional criteria established by the Small Business Administration (SBA). We continue to use these definitions and to consider the impact of this MM&O on the entities discussed in the initial Report and Order.

7. The RFA analysis adopted in the initial Report and Order remains correct because there is no greater burden on carriers who are donating non-initialized phones and manufacturers of “911-only” wireless devices to program these devices with 911 plus the seven least significant digits of the decimal representation of the ESN, IMEI, or other unique identifier programmed into the handset, than to program these devices with the 123-456-7890 sequential number. Also, there is no greater burden on carriers to program their networks to deliver these “telephone numbers” from carrier-donated non-service initialized phones and “911-only” handsets to PSAPs than programming their networks to deliver the 123-456-7890 sequential number from these devices.

List of Subjects in 47 CFR Part 20

Communications common carrier, Communications equipment, Radio.

Federal Communications Commission.
Marlene H. Dortch,
Secretary.

Final Rules

For the reasons discussed in the preamble, the Federal Communications Commission amends 47 CFR part 20 as follows:

PART 20—COMMERCIAL MOBILE RADIO SERVICES

1. The authority citation for part 20 continues to read as follows:

Authority: 47 U.S.C. 154, 160, 251-254, 303, and 332 unless otherwise noted.

2. Amend § 20.18 by revising paragraphs (l)(1)(i); (l)(2) introductory text and (l)(2)(i) to read as follows:

§ 20.18 911 Service.

* * * * *

(l) * * *

(1) * * *

(i) Program each handset with 911 plus the decimal representation of the seven least significant digits of the Electronic Serial Number, International Mobile Equipment Identifier, or any other identifier unique to that handset;

* * * * *

(2) Manufacturers of 911-only handsets that are manufactured on or after May 3, 2004, are required to:

(i) Program each handset with 911 plus the decimal representation of the seven least significant digits of the Electronic Serial Number, International Mobile Equipment Identifier, or any other identifier unique to that handset;

* * * * *

[FR Doc. 04-902 Filed 1-15-04; 8:45 am]

BILLING CODE 6712-01-P